DEPARTMENT OF LABOR

Employment and Training Administration

[TA-W-75,147]

Elkay Manufacturing, Broadview, IL; Amended Certification Regarding Eligibility To Apply for Worker Adjustment Assistance

In accordance with Section 223 of the Trade Act of 1974, as amended (“Act”), 19 U.S.C. 2273, the Department of Labor issued a Certification of Eligibility to Apply for Worker Adjustment Assistance on February 16, 2011, applicable to workers of Elkay Manufacturing, Broadview, Illinois. The notice will be published soon in the Federal Register.

At the request of the State Agency, the Department reviewed the certification for workers of the subject firm. The workers are engaged in the production of stainless steel sinks, counters, and cabinets.

The review shows that on December 29, 2008, a certification of eligibility to apply for adjustment assistance was issued for all workers of Elkay Manufacturing Company, Broadview, Illinois, separated from employment on or after December 8, 2007 through December 29, 2010. The notice was published in the Federal Register on January 26, 2009 (74 FR 4463).

In order to avoid an overlap in worker group coverage, the Department is amending the January 28, 2010 impact date established for TA-W-75,147, to read December 30, 2010.

The amended notice applicable to TA-W-75,147 is hereby issued as follows:

All workers of Elkay Manufacturing, Broadview, Illinois, who became totally or partially separated from employment on or after December 30, 2010, through February 16, 2013, and all workers in the group threatened with total or partial separation from employment on date of certification through two years from the date of certification, are eligible to apply for adjustment assistance under Chapter 2 of Title II of the Trade Act of 1974, as amended.

Signed in Washington, DC, this 23rd day of February 2011.
Elliott S. Kushner,
Certifying Officer, Office of Trade Adjustment Assistance.

[FR Doc. 2011-5649 Filed 3-11-11; 8:45 am]

BILLING CODE 4510-FN-P